DEPARTMENT OF ENERGY

Office of Science; Notice of Establishment of the Climate Change Science Program Product Development Advisory Committee

AGENCY: Department of Energy.

ACTION: Notice of establishment of advisory committee.

SUMMARY: Pursuant to Section 9(a)(2) of the Federal Advisory Committee Act, 5 U.S.C. App. 2, section 102-3.65, title 41, Code of Federal Regulations and following consultation with the other Federal agencies responsible for preparing Climate Change Science Program (CCSP) Synthesis and Assessment Products that are required to comply with Section 106 of the Global Change Research Act of 1990 (Pub. L. 101-606), notice is hereby given that the Climate Change Science Program Product Development Advisory Committee has been established for a two-year period.

The Committee will draft specific CCSP Synthesis and Assessment Products at the request of the Department of Energy in accordance with the Guidelines for producing the CCSP Synthesis and Assessment Products. The Committee will update the Department of Energy on the progress during the development of the products and will agree upon the contents of the products before advising the Department to adopt the language. The Committee will function solely as an advisory body. The Secretary of Energy has determined that establishment of the Climate Change Science Program Product Development Advisory Committee is essential to the conduct of the Department's business and in the public interest in connection with the performance of duties imposed by law upon the Department of Energy. The Committee will operate in accordance with the provisions of the Federal Advisory Committee Act (Pub. L. No. 92-463), the General Services Administration Final Rule on Federal Advisory Committee Management, and other directives and instructions issued in implementation of those acts.

FOR FURTHER INFORMATION CONTACT: Ms. Rachel Samuel at (202) 586-3279.

Issued in Washington, DC, on February 10, 2006.
James N. Solit,
Advisory Committee Management Officer.

[FR Doc. E6-2353 Filed 2-16-06; 8:45 am]

BILLING CODE 6450-01-P